DEPARTMENT OF HOUSING AND URBAN DEVELOPMENT

[Docket No. FR-5670-N-01]

Notice of Intent To Prepare an Environmental Impact Statement for the HOPE SF Development at Sunnydale and Velasco Public Housing Developments, San Francisco, CA

AGENCY: Office of the Assistant Secretary for Community Planning and Development, HUD.

ACTION: Notice of Intent to Prepare an EIS and to Conduct Public Scoping Meeting.

SUMMARY: The Department of Housing and Urban Development (HUD) gives notice to the public, agencies, and Indian tribes that the City and County of San Francisco's Mayor's Office of Housing (MOH) as the Responsible Entity in accordance with 24 CFR 58.2, intends to prepare a Draft Environmental Impact Report/Environmental Impact Statement (EIR/EIS) for the HOPE SF Development at the Sunnydale and Velasco Public Housing Developments (Sunnydale HOPE SF Master Plan Project). The EIR/EIS will be a joint National Environmental Policy Act (NEPA) and California Environmental Quality Act (CEQA) document.

The EIR will satisfy requirements of CEQA (Public Resources Code 21000 et seq.) and the State CEQA Guidelines (14 California Code of Regulations 15000 et seq.), which require that state and local government agencies consider the environmental consequences of projects over which they have discretionary authority before acting on those projects. The Proposed Action is subject to NEPA, because funding for the project may include HUD funds from programs subject to regulation by 24 CFR part 58; these include, but are not limited to, Community Development Block Grant (CDBG) funds under Title I of the Housing and Community Development Act of 1974; Home Investment Partnership Program (HOME) grants under Title II of the Cranston-Gonzales National Affordable Housing Act of 1990, as amended; Project Based Section 8 Vouchers under Section 8(o)(13) of the United States Housing Act of 1937; and/or Public Housing operating subsidies for mixed income developments authorized under the U.S. Housing Act of 1937, Section 35. In accordance with specific statutory authority and HUD's regulations at 24 CFR part 58 (Environmental Review Procedures for Entities Assuming HUD Environmental Responsibilities), HUD has provided for assumption of its NEPA authority and NEPA lead agency responsibility by the City and County of San Francisco. This notice is issued in accordance with the Council on Environmental Quality (CEQ) regulations at 40 CFR parts 1500-1508.

A Draft EIR/EIS will be prepared for the Proposed Action described herein. Comments relating to the Draft EIR/EIS are requested and will be accepted by the contact person listed below. When the Draft EIR/EIS is completed, a notice will be sent to individuals and groups known to have an interest in the Draft EIR/EIS and particularly in the environmental impact issues identified therein. Any person or agency interested in receiving a notice and making comment on the Draft EIR/EIS should contact the person listed below within 30 days of publication of this notice.

This EIS will be a NEPA document intended to satisfy requirements of Federal environmental statutes. In accordance with specific statutory authority and HUD's regulations at 24 CFR part 58 (Environmental Review Procedures for Entities Assuming HUD Environmental Responsibilities), HUD has provided for assumption of its NEPA authority and NEPA lead agency responsibility by the City and County of San Francisco. The EIR will be a CEQA document intended to satisfy State environmental statutes (Public Resources Code 21000 et seq. and 14 California Code of Regulations 15000 et seq.).

ADDRESSES: All interested agencies, tribes, groups, and persons are invited to submit written comments on the scope of the Draft EIS to the contact person shown below. Comments received will be considered in the preparation and distribution of the Draft EIS. Particularly solicited is information on reports or other environmental studies planned or completed in the project area, major issues that the EIS should consider, recommended mitigation measures, and alternatives to the Proposed Action. Federal agencies having jurisdiction by law, special expertise or other special interest should report their interest and indicate their readiness to aid in the EIS effort as a “Cooperating Agency.”

FOR FURTHER INFORMATION CONTACT: Eugene Flannery, Environmental Compliance Manager, City and County of San Francisco Mayor's Office of Housing, 1 South Van Ness Avenue, 5th Floor, San Francisco, CA 94103; Phone: (415) 701-5598; Fax (415) 701-5501; email: eugene.flannery@sfgov.org. The Environmental Review Record and information regarding the scoping meeting will be posted online at http://sf-moh.org/index.aspx?page=155.

SUPPLEMENTARY INFORMATION:

A. Background

The MOH, acting under authority of section 104(g) of the Housing and Community Development Act of 1974 (42 U.S.C. 5304(g)), section 288 of the HOME Investment Partnerships Act (42 U.S.C. 12838), section 26 of the United States Housing Act of 1937 (42 U.S.C. 1437x) and HUD's regulations at 24 CFR part 58, in cooperation with other interested agencies, will prepare an EIS to analyze potential impacts of the Sunnydale HOPE SF Master Plan Project.

Constructed in 1941 and 1963 respectively, the Sunnydale and Velasco Public Housing Developments together form the City's largest public housing community. Located in the Visitacion Valley area of San Francisco, the project site is bounded by Hahn Street to the east, Velasco Avenue to the south, Brookdale Avenue to the west, and McLaren Park to the north and northwest. It includes Assessor's Blocks 6310-Lot 1, Block 6311-Lot 1, Block 6312-Lot 1, Block 6313-Lot 1, Block 6314-Lot 1, and Block 6315-Lot 1. The 2,127,187-square-foot (approximately 50-acre) project site slopes down from west (Brookdale Avenue) to east (Hahn Street), at slopes ranging from 15.5 percent at its highest and steepest point to a 2-percent slope at the lower elevations. The average grade change is 9 percent. Elevations range from 250 feet above sea level (asl) at the western edge of the site to 75 feet asl at the southeastern corner.

The project site is a quarter of a mile north of Geneva Avenue, which is roughly the border between the City of San Francisco and Daly City and also leads to the I-280 freeway to the west. The project site is approximately three-quarters of a mile west of Bayshore Boulevard, which is a main street that connects the neighborhood to U.S. Highway 101 to the east. Single-family residential and small-multifamily residential uses are immediately adjacent to the site to the south and east, and these uses characterize most of the Visitacion Valley neighborhood. The north and west is McLaren Park, which is the City's second largest park at 312 acres. The park's Gleneagles Golf Course and Herz Playground are directly north of the project site. A sloped natural area of McLaren Park with a walking path to the Crocker Amazon Playground abuts the project site to the west. Also to the west is the partially occupied McLaren campus of the San Francisco Unified School District, which currently houses a pre-kindergarten school.

The Sunnydale and Velasco Public Housing Developments consist of 785 residential units and the Willie Brown Community Center (including the Housing Authority's Leasing Center) located in 94 buildings that are one and two stories (20-35 feet) in height. The buildings are laid out according to the site topography, as are the streets; neither follow the grid pattern of the surrounding neighborhood. In between the buildings is open space of grass and unmaintained landscaping with three play areas. A bungalow on Velasco Street is occupied by Wu Yee Children's Services, which operates a child care program for the neighborhood. Several asphalt surface parking lots are located throughout the site and provide 430 off street parking spaces. The streets internal to the project site provide parking for another 452 automobiles. Three bus stops are located within the project site.

The Sunnydale HOPE SF Master Plan (Proposed Action) would replace all 785 units, the current utility and open space infrastructure, re-align the streets and add new community facilities and park spaces. The Proposed Action would consist of the development of up to 1,700 new residential units that are a mix of public housing replacement units, new affordable units and new market rate units in buildings that range from 40-65 feet in height. The Proposed Action would also include up to 6 acres of new park spaces within the project site, up to 72,500 square feet of community facilities including a new community center, neighborhood-serving retail space, and a child care program.

Alternatives to the Proposed Action

There are three alternatives to the Proposed Action to be analyzed in the EIS. Alternative 1 is a variation of the project density. Alternative sites for the project were explored early in the process, and it was determined that no other more viable site was available.

Alternative 1—Reduced Development Alternative

Number of Units: 1,372.

Maximum Height: 65 feet.

Acreage: 48.8 acres (no change).

Percent Reduction in Units Compared to Proposed Action: 19 percent.

Alternative 2—Replacement of Existing Public Housing Units

Number of Units: 785 units.

Acreage: 48.8 acres.

No new Community Center, no retail, no additional open space.

Percent Reduction in Units Compared to Proposed Action: 53 percent.

Alternative 3—No Project Alternative

The No Project Alternative would analyze the “no action” alternative, which would be the continuation of uses on the site; therefore, existing buildings and tenants would remain at the project site and no new buildings or uses would be constructed.

B. Need for the EIS

The proposed project may constitute an action significantly affecting the quality of the human environment and an EIS will be prepared on this project by the City and County of San Francisco's MOH in accordance with the National Environmental Policy Act of 1969 (42 U.S.C. 4321 et seq.). Responses to this notice will be used to: (1) Determine significant environmental issues, (2) identify data that the EIS should address, and (3) identify agencies and other parties that will participate in the EIS process and the basis for their involvement.

C. Scoping

A public joint EIR/EIS scoping meeting will be held on a date within the comment period and after at least 15 days of publishing this Notice of Intent. Notices of the scoping meeting will be mailed when the date has been determined. The joint EIR/EIS scoping meeting will provide an opportunity for the public to learn more about the project and provide input to the environmental process. At the meeting, the public will be able to view graphics illustrating preliminary planning work and talk with MOH staff, and members of the consultant team providing technical analysis to the project. Translators will be available. Written comments and testimony concerning the scope of the joint EIR/EIS will be accepted at this meeting. In accordance with 40 CFR 1501.7 affected Federal, State, and local agencies, any affected Indian tribe, and other interested parties will be sent a scoping notice. Owners and occupants within a 300-foot radius will also be notified of the scoping process. In accordance with 24 CFR 58.59, the scoping hearing will be preceded by a notice of public hearing published in the local news media 15 days before the hearing date.

D. Probable Environmental Effects

The following subject areas will be analyzed in the combined EIR/EIS for probable environmental effects: Land Use and Planning (land use patterns, relationship to plans/policies and regulations; Visual Quality/Aesthetics (views/light and glare); Socioeconomics and Community (demographic character changes, displacement); Environmental Justice (disproportionately high and adverse effects on minority and low income populations); Cultural/Historic Resources; Transportation and Circulation; Noise (construction and operational); Air Quality (construction and operational); Greenhouse Gas Emissions; Wind and Shadow; Recreation; Utilities and Service Systems (water supply, stormwater, sewer, solid waste); Public Services (fire, police, schools, parks); Biological Resources; Geology/Soils; Hydrology/Water Quality (erosion control and drainage); Toxic and Hazardous Materials; Mineral and Energy Resources; and Agriculture and Forest Resources.

Questions may be directed to the individual named in this notice under the heading FOR FURTHER INFORMATION CONTACT.

Dated: November 8, 2012.
Mark Johnston,
Assistant Secretary for Community Planning and Development (Acting).

[FR Doc. 2012-27985 Filed 11-15-12; 8:45 am]

BILLING CODE 4210-67-P